DEPARTMENT OF COMMERCE

International Trade Administration

[A-570-502]

Notice of Extension of Time Limit for Preliminary Results of the Antidumping Duty Administrative Review: Certain Iron Construction Castings From the People's Republic of China

AGENCY: Import Administration, International Trade Administration, Department of Commerce.

EFFECTIVE DATE: December 10, 2002.

SUMMARY: The Department of Commerce (the Department) is extending the time limit for the preliminary results of the antidumping duty administrative review on certain iron construction castings from the People's Republic of China. This review covers the period May 1, 2001, through April 30, 2002. The extension is made pursuant to section 751(a)(2)(B)(iv) of the Tariff Act of 1930, as amended (“the Act”).

FOR FURTHER INFORMATION CONTACT: Javier Barrientos or Julio A. Fernandez, AD/CVD Enforcement Office 7, Import Administration, International Trade Administration, U.S. Department of Commerce, 14th Street and Constitution Avenue, NW., Washington, DC 20230, at (202) 482-2243 or (202) 482-0961, respectively.

Background

The Department of Commerce (the Department) received a request on May 30, 2002, from Powin Corporation, an importer of the subject merchandise, for an administrative review of the antidumping duty order on certain iron construction castings from the People's Republic of China (PRC) produced by Mucun Foundry of Fangzi District (Mucun Foundry). On June 25, 2002, the Department published a notice of initiation of this administrative review for the period of May 1, 2001, through April 30, 2002 (67 FR 42753).

Extension of Time Limits for Preliminary Results

Pursuant to section 751(a)(3)(A) of the Act, the Department shall issue preliminary results in an administrative review of an antidumping duty order within 245 days after the last day of the anniversary month of the date of publication of the order. The Act further provides, however, that the Department may extend that 245-day period to 365 days if it determines it is not practicable to complete the review within the foregoing time period.

In light of the complexity of analyzing the factors of production data, including indirect labor and electricity expenses incurred, and the sales data of the associated exporter, it is not practicable to complete this review by the current deadline of January 30, 2003.

Therefore, in accordance with section 751(a)(3)(A) of the Act, the Department is extending the time limit for the preliminary results by 120 days, until no later than May 30, 2003. The final results continue to be due 120 days after the publication of the preliminary results.

This notice is issued and published in accordance to sections 751(a)(1) and 777(I)(1) of the Act.

Dated: December 3, 2002.
Joseph A. Spetrini,
Deputy Assistant Secretary for Import Administration, Group III.

[FR Doc. 02-31153 Filed 12-9-02; 8:45 am]

BILLING CODE 3510-DS-P